ENVIRONMENTAL PROTECTION AGENCY

[OPP-2002-0053; FRL-6836-9]

Versar Inc. and ICF Consulting; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Versar Inc. and its subcontractor, ICF Consulting, in accordance with 40 CFR 2.307(h)(3) and 2.308(i)(2). Versar Inc. and its subcontractor, ICF Consulting, have been awarded a contract to perform work for OPP, and access to this information will enable Versar Inc. and its subcontractor, ICF Consulting, to fulfill the obligations of the contract.

DATES: Versar Inc. and its subcontractor, ICF Consulting, will be given access to this information on or before May 13, 2002.

FOR FURTHER INFORMATION CONTACT: By mail: Erik Johnson, FIFRA Security Officer, Information Resources and Services Division (7502C), Office of Pesticide Programs, Environmental Protection Agency, 1200 Pennsylvania Ave., NW., Washington, DC 20460; telephone number: (703) 305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register”—Environmental Documents. You can also go directly to the Federal Register listings at http://www.epa.gov/fedrgstr/.

II. Contractor Requirements

Under Contract No. 68-W0-1036, Versar Inc. and its subcontractor, ICF Consulting, will perform the following: Office of Pesticide Programs (OPP) has the responsibility of reviewing Product and Residue Chemistry data submitted with applications for the registration of specific pesticide products, and new petitions for proposed uses or tolerances for currently registered or for new pesticides. The contractor shall provide back up support for these activities, which may include statistical evaluation of monitoring data, the review of data submitted in support of tolerance proposals, and the preparation of a summary and index system of previously completed EPA product and residue chemistry reviews by crop, data requirement, and/or chemical to serve as a reference, policy and training guide.

For this work assignment, the Contractor shall review data summaries and reformatted existing studies to identify data gaps and any studies that indicate adverse effects and conduct a thorough, comprehensive examination of all product chemistry and residue chemistry data of pesticides, including the chemistry and metabolism of pesticides in plants and animals and the resulting dietary exposure.

The OPP has determined that access by Versar Inc. and its subcontractor, ICF Consulting, to information on all pesticide chemicals is necessary for the performance of this contract.

Some of this information may be entitled to confidential treatment. The information has been submitted to EPA under sections 3, 4, 6, and 7 of FIFRA and under sections 408, and 409 of FFDCA.

In accordance with the requirements of 40 CFR 2.307(h)(2), the contract with Versar Inc. and its subcontractor, ICF Consulting, prohibits use of the information for any purpose not specified in the contract; prohibits disclosure of the information to a third party without prior written approval from the Agency; and requires that each official and employee of the contractor sign an agreement to protect the information from unauthorized release and to handle it in accordance with the FIFRA Information Security Manual. In addition, Versar Inc. and its subcontractor, ICF Consulting, are required to submit for EPA approval a security plan under which any CBI will be secured and protected against unauthorized release or compromise. No information will be provided to Versar Inc. and its subcontractor, ICF Consulting, until the requirements in this document have been fully satisfied. Records of information provided to Versar Inc. and its subcontractor, ICF Consulting, will be maintained by EPA Project Officers for this contract. All information supplied to Versar Inc. and its subcontractor, ICF Consulting, by EPA for use in connection with this contract will be returned to EPA when Versar Inc. and its subcontractor, ICF Consulting, have completed their work.

List of Subjects

Environmental protection, Business and industry, Government contracts, Government property, Security measures.

Dated: April 25, 2002.
Linda Vlier Moos,
Acting Director, Information Resources and Services Division, Office of Pesticide Programs

[FR Doc. 02-11179 Filed 5-7-02; 8:45 am]

BILLING CODE 6560-50-S